DEPARTMENT OF HOMELAND SECURITY

Federal Emergency Management Agency

[Docket ID: FEMA-2010-0070]

Agency Information Collection Activities: Submission for OMB Review; Comment Request, OMB No. 1660-0057; Chemical Stockpile Emergency Preparedness Program (CSEPP) Evaluation and Customer Satisfaction Survey

AGENCY: Federal Emergency Management Agency, DHS.

ACTION: Notice; 30-day notice and request for comments; revision of a currently approved information collection; OMB No. 1660-0057; Chemical Stockpile Emergency Preparedness Program (CSEPP) Evaluation and Customer Satisfaction Survey; FEMA Form 008-0-3, Pueblo EPZ Residential Survey; FEMA Form 008-0-4, Pueblo City Residential Survey; FEMA Form 008-0-5, Pueblo EPZ Business Survey; FEMA Form 008-0-6, Umatilla EPZ Residential Survey; FEMA Form 008-0-7, Blue Grass EPZ Residential Survey; FEMA Form 008-0-8, Deseret EPZ Residential Survey.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before May 20, 2011.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or e-mail address FEMA-Information-Collections-Management@dhs.gov.

SUPPLEMENTARY INFORMATION:

Collection of Information

Title: Chemical Stockpile Emergency Preparedness Program (CSEPP) Evaluation and Customer Satisfaction Survey.

Type of Information Collection: Revision of a currently approved information collection.

OMB Number: 1660-0057.

Form Titles and Numbers: FEMA Form 008-0-3, Pueblo EPZ Residential Survey; FEMA Form 008-0-4, Pueblo City Residential Survey; FEMA Form 008-0-5, Pueblo EPZ Business Survey; FEMA Form 008-0-6, Umatilla EPZ Residential Survey; FEMA Form 008-0-7, Blue Grass EPZ Residential Survey; FEMA Form 008-0-8, Deseret EPZ Residential Survey.

Abstract: To support the development of public outreach and education efforts that will improve the emergency preparedness, FEMA's Chemical Stockpile Emergency Preparedness Program (CSEPP) will collect data from the citizens living in the Immediate Response Zones (IRZ) and Protective Action Zones (PAZ) surrounding stockpile sites. Program managers use survey data findings to evaluate public awareness of protective actions at CSEPP sites, and identify outreach weaknesses and strengths to develop effective outreach and education campaigns. Results from this information collection are shared with State, local, Tribal, and other FEMA officials for subsequent action plans addressing program-wide and stockpile site-specific issues. Results are also shared with other Federal agencies that lend expertise in specific areas of the program.

Affected Public: Individuals or households, Business or other for-profit.

Estimated Number of Respondents: 3,715.

Frequency of Response: On occasion.

Estimated Average Hour Burden per Respondent: .24 hours.

Estimated Total Annual Burden Hours: 898.11 hours.

Estimated Cost: There are no annual start-up or capital costs.

Dated: April 14, 2011.
Lesia M. Banks,
Director, Records Management Division, Mission Support Bureau, Federal Emergency Management Agency, Department of Homeland Security.

[FR Doc. 2011-9559 Filed 4-19-11; 8:45 am]

BILLING CODE 9111-46-P